DEPARTMENT OF COMMERCE

International Trade Administration

[A-570-117]

Wood Mouldings and Millwork Products From the People's Republic of China: Final Results of Antidumping Duty Administrative Review; Final Determination of No Shipments; and Partial Rescission; 2020-2022

AGENCY: Enforcement and Compliance, International Trade Administration, Department of Commerce.

SUMMARY: The U.S. Department of Commerce (Commerce) determines that Yinfeng Imp & Exp Trading Co., Ltd./Fujian Province Youxi City Mangrove Wood Machining Co., Ltd. (Yinfeng/Mangrove), Fujian Jinquan Trade Co., Ltd./Fujian Province Youxi County Baiyuan Wood Machining Co., Ltd. (Jinquan/Baiyuan) and 29 non-individually examined exporters of wood mouldings and millworks products (WMMP) from the People's Republic of China (China) did not sell subject merchandise to the United States at prices below normal value (NV) during the period of review (POR), August 12, 2020, through January 31, 2022. Commerce further determines that Fujian Shunchang Shengsheng Wood Industry Limited Company (Shunchang Shengsheng), Xiamen Jinxi Building Material Co., Ltd. (Xiamen Jinxi), and Zhangzhou Green Wood Industry and Trade Co., Ltd. (Greenwood) made no shipments of subject merchandise during the POR and that Gaomi Hongtai Home Furniture Co., Ltd. has not established eligibility for a separate rate and, therefore, is part of the China-wide entity. Additionally, we are rescinding this administrative review with respect to three companies that are not eligible for review because they either had no reviewable entries during the POR or are U.S. resellers.

DATES: Applicable September 12, 2023.

FOR FURTHER INFORMATION CONTACT: Samantha Kinney or Brian Smith, AD/CVD Operations, Office VIII, Enforcement and Compliance, International Trade Administration, Department of Commerce, 1401 Constitution Avenue NW, Washington, DC 20230; telephone: (202) 482-2285 or (202) 482-1766, respectively.

SUPPLEMENTARY INFORMATION:

Background

On March 7, 2023, Commerce published the Preliminary Results.¹ For events subsequent to the Preliminary Results, see the Issues and Decision Memorandum.²

¹ See Wood Mouldings and Millwork Products from the People's Republic of China: Preliminary Results of Antidumping Duty Administrative Review and Preliminary Determination of No Shipments, and Rescission in Part; 2020-2022, 88 FR 14139 (March 7, 2023) (Preliminary Results), and accompanying Preliminary Decision Memorandum (PDM).

² See Memorandum, “Wood Mouldings and Millwork Products from the People's Republic of China: Issues and Decision Memorandum for the Final Results of the 2020-2022 Antidumping Duty Administrative Review,” dated concurrently with, and hereby adopted by, this notice (Issues and Decision Memorandum).

Scope of the Order ³

³ See Wood Mouldings and Millwork Products from the People's Republic of China: Amended Final Antidumping Duty Determination and Antidumping Duty Order, 86 FR 9486 (February 16, 2021) (Order).

The merchandise covered by the Order is wood mouldings and millwork products, which are primarily classifiable under subheadings 4409.10.0500, 4409.10.1020, 4409.10.1040, 4409.10.1060, 4409.10.1080, 4409.10.4010, 4409.10.4090, 4409.10.4500, 4409.10.5000, 4409.10.9020, 4409.10.9040, 4409.22.0590, 4409.22.1000, 4409.22.4000, 4409.22.5000, 4409.22.5020, 4409.22.5040, 4409.22.5060, 4409.22.5090, 4409.22.9000, 4409.22.9020, 4409.22.9030, 4409.22.9045, 4409.22.9060, 4409.22.9090, 4409.29.0665, 4409.29.1100, 4409.29.4100, 4409.29.5100, 4409.29.9100, 4412.99.5115, 4412.99.9500, 4418.91.9095, and 4421.91.9780 of the of the Harmonized Tariff Schedule of the United States (HTSUS). WMMP may also enter under HTSUS numbers 4409.10.6000, 4409.10.6500, 4409.22.6000, 4409.22.6500, 4409.29.6100, 4409.29.6600, 4412.41.0000, 4412.42.0000, 4412.49.0000, 4412.91.5115, 4412.92.5215, 4412.99.9700, 4418.20.4000, 4418.20.8030, 4418.20.8060, 4418.91.9195, 4418.99.9095, 4418.99.9195, 4421.91.9880, 4421.99.9780, and 4421.99.9880. While the HTSUS subheading and ASTM specification are provided for convenience and for customs purposes, the written description of the subject merchandise is dispositive. A full description of the scope of the Order is contained in the Issues and Decision Memorandum.

Analysis of Comments Received

All issues raised by interested parties in briefs are addressed in the Issues and Decision Memorandum. A list of the issues addressed in the Issues and Decision Memorandum is provided in Appendix I to this notice. The Issues and Decision Memorandum is a public document and is on file electronically via Enforcement and Compliance's Antidumping and Countervailing Duty Centralized Electronic Service System (ACCESS). ACCESS is available to registered users at https://access.trade.gov. In addition, a complete version of the Issues and Decision Memorandum can be accessed directly at https://access.trade.gov/public/FRNoticesListLayout.aspx.

Changes Since the Preliminary Results

Based on our verification findings, review of the record, and comments received from interested parties regarding our Preliminary Results, we made changes to the margin calculations for Jinquan/Baiyuan and Yinfeng/Mangrove.⁴

⁴ See Issues and Decision Memorandum; see also Memorandum, “Final Results Calculation Memorandum for Jinquan/Baiyuan,” dated concurrently with this notice; and Memorandum, “Final Results Calculation Memorandum for Yinfeng Imp & Exp Trading Co., Ltd/Fujian Province Youxi City Mangrove Wood Machining Co., Ltd.,” dated concurrently with this notice.

Final Determination of No Shipments

In the Preliminary Results, we preliminarily determined that Shunchang Shengsheng, Xiamen Jinxi, and Green Wood had no shipments of subject merchandise to the United States during the POR.⁵ No party filed comments with respect to this preliminary finding and we received no information to contradict it. Therefore, we continue to find that these three companies had no shipments of subject merchandise during the POR and will issue appropriate liquidation instructions that are consistent with our “automatic assessment” clarification for these final results.⁶

⁵ See Preliminary Results, 88 FR at 14140.

⁶ See Non-Market Economy Antidumping Proceedings: Assessment of Antidumping Duties, 76 FR 65694 (October 24, 2011) (Assessment Practice Refinement).

Partial Rescission

In the Preliminary Results, Commerce determined that China Cornici Co. Ltd. (China Cornici) had no suspended entries of subject merchandise during the POR. After analysis of comments received from interested parties and the record information, we continue to determine that China Cornici had no reviewable entries of subject merchandise during the POR.⁷ Therefore, we are rescinding this review with respect to China Cornici in accordance with 19 CFR 351.213(d)(3).

⁷ See Issues and Decision Memorandum at Comment 15 for further discussion.

In the Preliminary Results, Commerce determined that TL Wood Products Inc. (TL Wood) and Aventra, Inc. (Aventra) were not eligible for review pursuant to 19 CFR 351.213(b)(1), because record evidence indicates that they are U.S. resellers. After analysis of the comments received from interested parties and the record information, we continue to determine that TL Wood and Aventra are U.S. resellers and not eligible for review pursuant to 19 CFR 351.213(b)(1).⁸ Therefore, we are rescinding this review with respect to TL Wood and Aventra in accordance with 19 CFR 351.213(d)(3).

⁸ Id. at Comment 16 for further discussion.

Separate Rate Respondents

In our Preliminary Results, we determined that 29 companies demonstrated their eligibility for separate rates.⁹ We received arguments from interested parties since the issuance of the Preliminary Results. After an analysis of these comments, we continue to find that each of these 29 companies ¹⁰ is eligible for a separate rate, as indicated in the table in the “Final Results of Review” section of this notice.¹¹

⁹ See Preliminary Results PDM at 10-13.

¹⁰ See Appendix II for a list of these companies.

¹¹ See Issues and Decision Memorandum at Comments 12 through 19 for further discussion.

Rate for Non-Examined Separate Rate Respondents

The statute and our regulations do not address the establishment of a rate to be assigned to respondents not selected for individual examination when we limit our examination of companies subject to the administrative review pursuant to section 777A(c)(2)(B) of the Tariff Act of 1930, as amended (the Act). Generally, we look to section 735(c)(5) of the Act, which provides instructions for calculating the all-others rate in an investigation, for guidance when calculating the rate for respondents not individually examined in an administrative review. Under section 735(c)(5)(A) of the Act, the all-others rate is normally “an amount equal to the weighted average of the estimated weighted average dumping margins established for exporters and producers individually investigated, excluding any zero and de minimis margins, and any margins determined entirely {on the basis of facts available}.” Accordingly, Commerce's usual practice in determining the rate for separate-rate respondents not selected for individual examination, has been to average the weighted-average dumping margins of the selected companies, excluding rates that are zero, de minimis, or based entirely on facts available.¹² However, when the weighted-average dumping margins established for all individually investigated respondents are zero, de minimis, or based entirely on facts available, section 735(c)(5)(B) of the Act permits Commerce to “use any reasonable method to establish the estimated all-others rate for exporters and producers not individually investigated, including averaging the estimated weighted-average dumping margins determined for the exporters and producers individually investigated.” ¹³ Because in these final results of this review we calculated a dumping margin of zero for both Yinfeng/Mangrove and Jinquan/Baiyuan, we assigned a zero dumping margin to the separate rate respondents that we did not individually examine consistent with Commerce's practice and section 735(c)(5)(B) of the Act.¹⁴

¹² See Longkou Haimeng Mach. Co. v. United States, 581 F. Supp. 2d 1344, 1357-60 (CIT 2008) (affirming Commerce's determination to assign a 4.22 percent dumping margin to the separate-rate respondents in a segment where the three mandatory respondents received dumping margins of 4.22 percent, 0.03 percent, and zero percent, respectively); see also Certain Kitchen Appliance Shelving and Racks from the People's Republic of China: Final Determination of Sales at Less Than Fair Value, 74 FR 36656, 36660 (July 24, 2009).

¹³ See Albemarle Corp. v. United States, 821 F.3d 1345 (Fed. Cir. 2016).

¹⁴ See Preliminary Results PDM at 14; and section 735(c)(5)(B) of the Act.

The China-Wide Entity

In the Preliminary Results, Commerce found that Gaomi Hongtai did not establish eligibility for a separate rate because it did not file a timely separate rate application or a separate rate certification, as appropriate.¹⁵ After analyzing the comments received from interested parties and record information, we continue to determine that Gaomi Hongtai did not establish its eligibility for a separate rate.¹⁶ Therefore, for these final results, we determine Gaomi Hongtai to be part of the China-wide entity. Because no party requested a review of the China-wide entity, and Commerce no longer considers the China-wide entity as an exporter conditionally subject to administrative reviews,¹⁷ we did not conduct a review of the China-wide entity. Thus, the weighted-average dumping margin for the China-wide entity, as adjusted for export subsidies (i.e., 220.87 percent),¹⁸ is not subject to change as a result of this review.

¹⁵ See Preliminary Results PDM at 13-14.

¹⁶ See Issues and Decision Memorandum at Comment 14 for further discussion.

¹⁷ See Antidumping Proceedings: Announcement of Change in Department Practice for Respondent Selection in Antidumping Duty Proceedings and Conditional Review of the Nonmarket Economy Entity in NME Antidumping Duty Proceedings, 78 FR 65963, 65969-70 (November 4, 2013).

¹⁸ See Order, 86 FR at 9488. The weighted-average dumping margin for the China-wide entity (231.60 percent) was adjusted for export subsidies to determine the cash deposit rate (220.87 percent) for companies in the China-wide entity.

Final Results of Review

For companies subject to this review which established their eligibility for a separate rate, Commerce determines that the following weighted-average dumping margins exist for the period August 12, 2020, through January 31, 2022:

¹⁹ See Appendix II.

Exporters | Weighted-average dumping margin (percent)
Fujian Jinquan Trade Co., Ltd./Baiyuan Wood Machining Co., Ltd | 0.00
Yinfeng Imp & Exp Trading Co., Ltd./Fujian Province Youxi City Mangrove Wood Machining Co., Ltd | 0.00
Non-Selected Companies Under Review Receiving a Separate Rate ¹⁹ | 0.00

Disclosure

We intend to disclose the calculations performed to parties in this proceeding within five days of the date of publication of this notice in accordance with 19 CFR 351.224(b).

Assessment Rates

Pursuant to section 751(a)(2)(C) of the Act and 19 CFR 351.212(b), Commerce has determined, and U.S Customs and Border Protection (CBP) shall assess, antidumping duties on all appropriate entries of subject merchandise in accordance with these final results of review. Commerce intends to issue assessment instructions to CBP no earlier than 35 days after the date of publication of these final results. If a timely summons is filed at the U.S. Court of International Trade, the assessment instructions will direct CBP not to liquidate relevant entries until the time for parties to file a request for a statutory injunction has expired (i.e., within 90 days of publication).

For Yinfeng/Mangrove, Jinquan/Baiyuan and the other respondents which were not selected for individual examination and which qualified for a separate rate, we will instruct CBP to liquidate the appropriate entries without regard to antidumping duties.²⁰ For entries that were not reported in the U.S. sales databases submitted by Yinfeng/Mangrove and Jinquan/Baiyuan during this review, Commerce will instruct CBP to liquidate such entries at the China-wide rate (i.e., 220.87 percent).

²⁰ See 19 CFR 351.106(c)(2).

For the company identified as part of the China-wide entity, Gaomi Hontai, we will instruct CBP to apply the China-wide rate (i.e., 220.87 percent) to all entries of subject merchandise during the POR which were exported by this company.

For Shunchang Shengsheng, Xiamen Jinxi, and Green Wood, which Commerce determined had no shipments of the subject merchandise during the POR, any suspended entries that entered under that exporter's case number (i.e., at that exporter's cash deposit rate) will be liquidated at the rate for the China-wide entity, consistent with Commerce's assessment practice in non-market economy cases.²¹ For China Cornici, TL Wood, and Aventra, for which the administrative review is rescinded, antidumping duties shall be assessed at a rate equal to the cash deposit of estimated antidumping duties required at the time of entry, or withdrawal from warehouse, for consumption, in accordance with 19 CFR 351.212(c)(1)(i).

²¹ For a full discussion of this practice, see Assessment Practice Refinement, 76 FR at 65694.

Cash Deposit Requirements

The following cash deposit requirements will be effective upon publication of the final results of this administrative review for all shipments of the subject merchandise from China entered, or withdrawn from warehouse, for consumption on or after the publication date, as provided by section 751(a)(2)(C) of the Act: (1) for Jinquan/Baiyuan, Yinfeng/Mangrove, and the other companies which were found eligible for a separate rate, the cash deposit rate will be zero; (2) for previously investigated or reviewed Chinese and non-Chinese exporters not listed above that have separate rates, the cash deposit rate will continue to be the exporter-specific rate published for the most recently completed segment of this proceeding in which they were reviewed; (3) for all Chinese exporters of subject merchandise that have not been found to be entitled to a separate rate, the cash deposit rate will be equal to the weighted-average dumping margin for the China-wide entity (i.e., 220.87 percent); and (4) for all non-Chinese exporters of subject merchandise which have not received their own separate rate, the cash deposit rate will be the rate applicable to the Chinese exporter(s) that supplied that non-Chinese exporter. These per-unit cash deposit requirements, when imposed, shall remain in effect until further notice.

Notification to Importers Regarding the Reimbursement of Duties

This notice also serves as a final reminder to importers of their responsibility under 19 CFR 351.402(f)(2) to file a certificate regarding the reimbursement of antidumping and/or countervailing duties prior to liquidation of the relevant entries during this POR. Failure to comply with this requirement could result in Commerce's presumption that reimbursement of antidumping and/or countervailing duties has occurred and the subsequent assessment of double antidumping duties, and/or increase in the amount of antidumping duties by the amount of the countervailing duties.

Administrative Protective Order (APO)

This notice also serves as a reminder to parties subject to an APO of their responsibility concerning the return or destruction of proprietary information disclosed under APO in accordance with 19 CFR 351.305(a)(3), which continues to govern business proprietary information in this segment of the proceeding. Timely written notification of the return or destruction of APO materials, or conversion to judicial protective order, is hereby requested. Failure to comply with the regulations and terms of an APO is a violation which is subject to sanction.

Notification to Interested Parties

We are issuing and publishing these final results of administrative review and notice in accordance with sections 751(a)(1) and 777(i) of the Act and 19 CFR 351.221(b)(5).

Dated: September 5, 2023.
Lisa W. Wang,
Assistant Secretary for Enforcement and Compliance.

Appendix I—List of Topics Discussed in the Issues and Decision Memorandum

I. Summary

II. Background

III. Scope of the Order

IV. Changes Since the Preliminary Results

V. Discussion of the Issues

General

Comment 1: Whether to Apply Adverse Facts Available to Yinfeng/Mangrove

Comment 2: Whether to Apply AFA to Jinquan/Baiyuan

Comment 3: Market Economy Inputs

Comment 4: Importer-Specific Assessment Rates

Comment 5: Valuation of Water-Based Paint

Jinquan/Baiyuan

Comment 6: Valuation of Power Adhesive of Pre-Gelatinized Starch

Comment 7: Valuation of Polyvinyl Alcohol

Comment 8: Jinquan/Baiyuan's Electricity Offset

Comment 9: Clerical Errors in Jinquan/Baiyuan's Margin Calculations

Yinfeng/Mangrove

Comment 10: Valuation of Acrylic Polymer

Comment 11: Yinfeng/Mangrove's Radiata Pine Log Inputs

Separate Rate Companies

Comment 12: Whether Raoping HongRong Is Eligible for a Separate Rate

Comment 13: Whether Bel Trade Is Eligible for a Separate Rate

Comment 14: Whether to Rescind the Review for Gaomi Hongtai

Comment 15: Whether China Cornici Is Eligible for a Separate Rate

Comment 16: Whether TL Wood Is Eligible for a Separate Rate

Comment 17: Clarification of Chen Sheng's Separate Rate

Comment 18: Whether Shenzhen Xinjintai Industrial Co., Ltd. Is Eligible for a Separate Rate

Comment 19: Whether Shaxian Hengtong Wood Industry Co., Ltd. Is Eligible for a Separate Rate

VI. Recommendation

Appendix II—Non-Selected Companies Under Review Receiving a Separate Rate

1. Anji Huaxin Bamboo & Wood Products Co., Ltd.

2. Baixing Import and Export Trading Co., Ltd Youxi Fujian

3. Bel Trade Wood Industrial Co., Ltd Youxi Fujian

4. Fotiou Frames Limited

5. Fujian Hongjia Craft Products Co., Ltd.

6. Fujian Sanming City Donglai Wood Co., Ltd

7. Fujian Wangbin Decorative Material Co., Ltd

8. Fujian Youxi Best Arts & Crafts Co. Ltd

9. Fujian Zhangping Kimura Forestry Products Co., Ltd.

10. Homebuild Industries Co., Ltd.

11. Jiangsu Chen Sheng Forestry Development Co., Ltd.

12. Jiangsu Wenfeng Wood Co., Ltd.

13. Jim Fine Wooden Products Co., Ltd.

14. Longquan Jiefeng Trade Co., Ltd.

15. Nanping Huatai Wood & Bamboo Co., Ltd

16. Omni One, Co., Limited

17. Putian Yihong Wood Industry Co., Ltd.

18. Raoping HongRong Handicrafts, Co., Ltd.

19. Shandong Miting Household Co., Ltd.

20. Shaxian Hengtong Wood Industry Co., Ltd

21. Shaxian Shiyiwood, Ltd

22. Shenzhen Xinjintai Industrial Co., Ltd.

23. Shuyang Kevin International Co., Ltd

24. Sun Valley Shade Co., Ltd.

25. Suqian Sulu Import & Export Trading Co., Ltd

26. Tim Feng Manufacturing Co., Ltd.

27. Wuxi Boda Bamboo & Wood Industrial Co., Ltd.

28. Zhangzhou Wangjiamei Industry & Trade Co., Ltd.

29. Zhangzhou Yihong Industrial Co., Ltd.

[FR Doc. 2023-19629 Filed 9-11-23; 8:45 am]

BILLING CODE 3510-DS-P